DEPARTMENT OF TRANSPORTATION

Federal Aviation Administration

14 CFR Part 39

[Docket No. FAA-2023-1717; Project Identifier MCAI-2023-00728-A; Amendment 39-22578; AD 2023-21-06]

RIN 2120-AA64

Airworthiness Directives; Embraer S.A. Airplanes

AGENCY: Federal Aviation Administration (FAA), DOT.

ACTION: Final rule.

SUMMARY: The FAA is adopting a new airworthiness directive (AD) for certain Embraer S.A. (Embraer) Model EMB-505 airplanes. This AD was prompted by analysis of certain monuments (the right-hand refreshment center and left-hand forward cabinet) that identified the need for installing structural reinforcements and replacing certain floor support rivets. This AD requires installing structural reinforcements on certain monuments and replacing certain floor support rivets, as specified in an Agência Nacional de Aviação Civil (ANAC) AD, which is incorporated by reference. The FAA is issuing this AD to address the unsafe condition on these products.

DATES: This AD is effective December 11, 2023.

The Director of the Federal Register approved the incorporation by reference of a certain publication listed in this AD as of December 11, 2023.

ADDRESSES:

AD Docket: You may examine the AD docket at regulations.gov under Docket No. FAA-2023-1717; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For the service information identified in this final rule, contact ANAC, Continuing Airworthiness Technical Branch (GTAC), Rua Doutor Orlando Feirabend Filho, 230—Centro Empresarial Aquarius—Torre B -Andares 14 a 18, Parque Residencial Aquarius, CEP 12.246-190—São José dos Campos—SP, Brazil; phone: 55 (12) 3203-6600; email: pac@anac.gov.br; website: anac.gov.br/en/. You may find this material on the ANAC website at sistemas.anac.gov.br/certificacao/DA/DAE.asp.

• You may view this material at the FAA, Airworthiness Products Section, Operational Safety Branch, 901 Locust, Kansas City, MO 64106. For information on the availability of this material at the FAA, call (817) 222-5110. It is also available in the AD docket at regulations.gov under Docket No. FAA-2023-1717.

FOR FURTHER INFORMATION CONTACT: Jim Rutherford, Aviation Safety Engineer, FAA, 1600 Stewart Avenue, Suite 410, Westbury, NY 11590; phone: (816) 329-4165; email: jim.rutherford@faa.gov.

SUPPLEMENTARY INFORMATION:

Background

The FAA issued a notice of proposed rulemaking (NPRM) to amend 14 CFR part 39 by adding an AD that would apply to certain serial-numbered Embraer Model EMB-505 airplanes. The NPRM published in the Federal Register on August 24, 2023 (88 FR 57907). The NPRM was prompted by AD 2023-05-03, effective June 2, 2023, issued by ANAC, which is the aviation authority for Brazil (ANAC AD 2023-04-01) (also referred to as the MCAI), to correct an unsafe condition for certain serial-numbered Embraer Model EMB-505 airplanes. The MCAI states that analysis identified certain monuments (the right-hand refreshment center and left-hand forward cabinet) that might not withstand the loads expected for specific emergency landing conditions, which may cause the detachment of mass items and result in injuries to the airplane occupants. To address this unsafe condition, the MCAI specifies installing structural reinforcements on certain monuments and replacing applicable floor support rivets.

In the NPRM, the FAA proposed to require installing structural reinforcements on certain monuments and replacing certain floor support rivets, as specified in ANAC AD 2023-04-01. The FAA is issuing this AD to address the unsafe condition.

You may examine the MCAI in the AD docket at regulations.gov under Docket No. FAA-2023-1717.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Related Service Information Under 1 CFR Part 51

ANAC AD 2023-05-03 specifies procedures for installing structural reinforcements on certain monuments and replacing applicable fasteners on the floor support.

This material is reasonably available because the interested parties have access to it through their normal course of business or by the means identified in ADDRESSES.

Differences Between This AD and the MCAI

The service information specified in ANAC AD 2023-05-03 allows the use of alternative or similar parts in place of the ones specified in the kits, provided these alternative or similar parts are approved by Embraer, but this AD requires approval from either the Manager, International Validation Branch, FAA; ANAC; or ANAC's authorized Designee.

Costs of Compliance

The FAA estimates that this AD affects 208 airplanes of U.S. registry.

The FAA estimates the following costs to comply with this AD:

Estimated Costs
Action | Labor cost | Parts cost | Cost per product | Cost on U.S. operators
Airplane groups 1 and 2—install structural reinforcements | 21.50 work-hours × $85 per hour = $1,827.50 | $1,600 | $3,427.50 | $239,925 (70 airplanes).
Airplane groups 3, 4, 5, and 10—install structural reinforcements and replace floor fasteners | 13.50 work-hours × $85 per hour = $1,147.50 | $600 | $1,747.50 | $214,942.50 (123 airplanes).
Airplane groups 6 and 8—install structural reinforcements and replace floor fasteners | 25.50 work-hours × $85 per hour = $2,167.50 | $2,000 | $4,167.50 | $37,507.50 (9 airplanes).
Airplane group 7—install structural reinforcements | 19.50 work-hours × $85 per hour = $1,657.50 | $1,600 | $3,257.50 | $16,287.50 (5 airplanes).
Airplane group 9—install structural reinforcements | 13.50 work-hours × $85 per hour = $1,147.50 | $1,600 | $2,747.50 | $2,747.50 (1 airplane).

The FAA estimates the following costs for operators that did the actions in the original version of Embraer Service Bulletin SB505-25-0046, dated March 31, 2021. The agency has no way of determining the number of airplanes that might need these actions:

On-Condition Costs
Action | Labor cost | Parts cost | Cost per product
Inspect floor fasteners | 8.50 work-hours × $85 per hour = $722.50 | $50 | $772.50
Replace floor fasteners | 1 work-hour × $85 per hour = $85 | $50 | $135

The FAA has included all known costs in its cost estimate. According to the manufacturer, however, all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-21-06 Embraer S.A.: Amendment 39-22578; Docket No. FAA-2023-1717; Project Identifier MCAI-2023-00728-A.

(a) Effective Date

This airworthiness directive (AD) is effective December 11, 2023.

(b) Affected ADs

None.

(c) Applicability

This AD applies to Embraer S.A. Model EMB-505 airplanes, as identified in Agência Nacional de Aviação Civil (ANAC) AD 2023-05-03, effective June 2, 2023 (ANAC AD 2023-05-03), certificated in any category.

(d) Subject

Joint Aircraft System Component (JASC) Code 2500, Cabin Equipment/Furnishings.

(e) Unsafe Condition

This AD was prompted by analysis of certain monuments (the right-hand refreshment center and left-hand forward cabinet) that identified the need for installing structural reinforcements and replacing applicable floor support rivets. The FAA is issuing this AD to address the unsafe condition. The unsafe condition, if not addressed, could result in a monument not withstanding the loads expected for specific emergency landing conditions, which may cause the detachment of mass items and result in injuries to the airplane occupants.

(f) Compliance

Comply with this AD within the compliance times specified, unless already done.

(g) Required Actions

Except as specified in paragraphs (h) and (i) of this AD: Comply with all required actions and compliance times specified in, and in accordance with, ANAC AD 2023-05-03.

(h) Exceptions to ANAC AD 2023-05-03

(1) Where ANAC AD 2023-05-03 refers to its effective date, this AD requires using the effective date of this AD.

(2) The service information referenced in ANAC AD 2023-05-03 allows the use of alternative or similar parts in place of the ones specified in the kits, provided that these alternative or similar parts are approved by Embraer. This AD requires approval from either the Manager, International Validation Branch, FAA; ANAC; or ANAC's authorized Designee. If approved by the ANAC Designee, the approval must include the Designee's authorized signature.

(3) Where the service information referenced in ANAC AD 2023-05-03 specifies discarding parts, this AD requires removing those parts from service.

(4) This AD does not adopt paragraph (d) of ANAC AD 2023-05-03.

(i) No Reporting Requirement

Although the service information referenced in ANAC AD 2023-05-03 specifies to submit certain information to the manufacturer, this AD does not include that requirement.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (k) of this AD or email to: 9-AVS-AIR-730-AMOC@faa.gov. If mailing information, also submit information by email. Before using any approved AMOC, notify your appropriate principal inspector, or lacking a principal inspector, the manager of the local Flight Standards District Office/certificate holding district office.

(k) Additional Information

For more information about this AD, contact Jim Rutherford, Aviation Safety Engineer, FAA, 1600 Stewart Avenue, Suite 410, Westbury, NY 11590; phone: (816) 329-4165; email: jim.rutherford@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Agência Nacional de Aviação Civil (ANAC) AD 2023-05-03, effective June 2, 2023.

(ii) [Reserved]

(3) For ANAC AD 2023-05-03, contact ANAC, Continuing Airworthiness Technical Branch (GTAC), Rua Doutor Orlando Feirabend Filho, 230—Centro Empresarial Aquarius—Torre B—Andares 14 a 18, Parque Residencial Aquarius, CEP 12.246-190—São José dos Campos—SP, Brazil; phone: 55 (12) 3203-6600; email: pac@anac.gov.br; website: anac.gov.br/en/. You may find this material on the ANAC website at sistemas.anac.gov.br/certificacao/DA/DAE.asp.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on October 26, 2023.
Caitlin Locke,
Director, Compliance & Airworthiness Division, Aircraft Certification Service.

[FR Doc. 2023-24387 Filed 11-3-23; 8:45 am]

BILLING CODE 4910-13-P